DEPARTMENT OF COMMERCE

National Oceanic and Atmospheric Administration

RIN 0648-XA56

Marine Fisheries Advisory Committee; Public Meetings

AGENCY: National Marine Fisheries Service (NMFS), National Oceanic and Atmospheric Administration (NOAA), Commerce.

ACTION: Notice of open public meeting.

SUMMARY: Notice is hereby given of a meeting of the Marine Fisheries Advisory Committee (MAFAC). This will be the second meeting to be held in calendar year 2007 to review and advise NOAA on management policies for living marine resources. Agenda topics are provided under the SUPPLEMENTARY INFORMATION section of this notice. All full Committee sessions will be open to the public.

DATES: The meetings will be held December 18, 2007, from 9 a.m. to 5 p.m., December 19, 2007, from 9 a.m. to 5 p.m., and December 20, 2007, from 9 a.m. to 5 p.m.

ADDRESSES: The meetings will be held at the Don CeSar Beach Resort, 3400 Gulf Boulevard, St. Pete Beach, Florida 33706; (866) 728-2206.

FOR FURTHER INFORMATION CONTACT: Mark Holliday, Director, NMFS Office of Policy; telephone: (301) 713-2239 x120.

SUPPLEMENTARY INFORMATION: As required by section 10(a)(2) of the Federal Advisory Committee Act, 5 U.S.C. App. 2, notice is hereby given of meetings of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, State, consumer, academic, tribal, governmental and other national interests. The complete charter and summaries of former meetings are located online at www.nmfs.noaa.gov/ocs/mafac/index.htm.

Matters To Be Considered

December 18, 2007

The meeting will begin with opening remarks and introductions to the full committee from Dr. William T. Hogarth, Assistant Administrator for Fisheries. MAFAC subcommittee chairs will provide an overview of what their respective subcommittees will address during the meeting. A brief review and discussion of administrative items will be conducted. The balance of the day will be dedicated to NMFS briefings on NOAA regional collaboration efforts; marine recreational fisheries improvements; aquaculture; and updates on the implementation of the Magnuson-Stevens Fishery Conservation and Management Reauthorization Act of 2006.

December 19, 2007

The full Committee will reconvene from 9 a.m. to 5 p.m. to discuss: Public comment responses and recommendations for MAFAC's Vision 2020 project; opportunities for development of a NOAA national ocean policy statement; and issues surrounding a seafood certification standard.

December 20, 2007

The Strategic Planning and Commerce Subcommittees and the Vision 2020 and Recreational Fisheries working groups will meet from 9 a.m. to noon. The full Committee will reconvene from 1 p.m. to 5 p.m. to receive Subcommittee and working group recommendations, discuss, and vote on any proposed actions.

Special Accommodations

These meetings are physically accessible to people with disabilities. Requests for sign language interpretation or other auxiliary aids should be directed to Mark Holliday, Director, NMFS Office of Policy; telephone: (301) 713-2239 x120 by 5 p.m., December 11, 2007.

Dated: November 28, 2007.
William T. Hogarth,
Assistant Administrator for Fisheries, National Marine Fisheries Service.

[FR Doc. E7-23414 Filed 11-30-07; 8:45 am]

BILLING CODE 3510-22-P